DEPARTMENT OF COMMERCE

National Oceanic and Atmospheric Administration

RIN 0648-XB512

Atlantic Highly Migratory Species; Advisory Panel

AGENCY: National Marine Fisheries Service (NMFS), National Oceanic and Atmospheric Administration (NOAA), Commerce.

ACTION: Notice; solicitation of nominations.

SUMMARY: NMFS solicits nominations for the Atlantic Highly Migratory Species (HMS) Advisory Panel (AP). NMFS consults with and considers the comments and views of the HMS AP when preparing and implementing Fishery Management Plans (FMPs) or FMP amendments for Atlantic tunas, swordfish, sharks, and billfish. Nominations are being sought to fill approximately one-third (12) of the seats on the HMS AP for 3-year appointments. Individuals with definable interests in the recreational and commercial fishing and related industries, environmental community, academia, and non-governmental organizations are considered for membership on the HMS AP. NMFS also intends to fill an additional vacancy on the HMS AP for the remainder of a term that expires on December 31, 2023.

DATES: Nominations must be received on or before December 17, 2021.

ADDRESSES: You may submit nominations and requests for the Advisory Panel Statement of Organization, Practices, and Procedures by email to HMSAP.Nominations@noaa.gov. Include in the subject line the following identifier: “HMS AP Nominations.”

FOR FURTHER INFORMATION CONTACT: Peter Cooper at (301) 427-8503.

SUPPLEMENTARY INFORMATION: Atlantic HMS fisheries are managed under the dual authority of both the Magnuson-Stevens Fishery Conservation and Management Act (Magnuson-Stevens Act; 16 U.S.C. 1801 et seq.) and the Atlantic Tunas Convention Act (ATCA; 16 U.S.C. 971 et seq.). The 2006 Consolidated Atlantic HMS Fishery Management Plan (2006 Consolidated HMS FMP) and its amendments are implemented by regulations at 50 CFR part 635.

The Magnuson-Stevens Act requires the establishment of an AP for each FMP for Atlantic HMS, i.e., tunas, swordfish, billfish, and sharks. 16 U.S.C. 1854(g)(1)(A)-(B). Since the inception of the AP in 1998, NMFS has consulted with and considered the comments and views of AP members when preparing and implementing Atlantic HMS FMPs or FMP amendments. In this notice, NMFS solicits nominations for the Atlantic HMS AP. Nominations are being sought to fill approximately one-third (12) of the seats on the HMS AP for 3-year appointments. Individuals with definable interests in the recreational and commercial fishing and related industries, environmental community, academia, and non-governmental organizations are considered for membership on the HMS AP as described below. NMFS also intends to select a nominee to fill an additional academic vacancy on the HMS AP for the remainder of a term that expires on December 31, 2023. This vacancy is the result of a sitting HMS AP member moving to the HMS AP seat designated for the ICCAT Advisory Committee Chair.

Procedures and Guidelines

A. Nomination Procedures for Appointments to the Advisory Panel

Nomination packages should include:

1. The name of the nominee and a description of his/her interest in HMS or HMS fisheries, or in particular species of sharks, swordfish, tunas, or billfish;

2. Contact information, including mailing address, phone, and email of the nominee;

3. A statement of background and/or qualifications;

4. A written commitment that the nominee shall actively participate in good faith, and consistent with ethics obligations, in the meetings and tasks of the HMS AP; and

5. A list of outreach resources that the nominee has at his/her disposal to communicate qualifications for HMS AP membership.

Qualification for membership includes one or more of the following: (1) Experience in HMS recreational fisheries; (2) experience in HMS commercial fisheries; (3) experience in fishery-related industries (e.g., marinas, bait and tackle shops); (4) experience in the scientific community working with HMS; and/or (5) representation of a private, non-governmental, regional, national, or international organization that represents marine fisheries, or environmental, governmental, or academic interests regarding HMS.

Tenure for the HMS AP

Member tenure will be for 3 years, with approximately one-third of the members' terms expiring on December 31 of each year. Nominations are sought for terms beginning January 2022 and expiring December 2024. NMFS also intends to select a nominee to fill an additional vacancy for the remainder of a term that expires on December 31, 2023.

B. Participants

Nominations for the HMS AP will be accepted to allow representation from commercial and recreational fishing interests, academic/scientific interests, and the environmental/non-governmental organization community, for individuals who are knowledgeable about Atlantic HMS and/or Atlantic HMS fisheries. Current representation on the HMS AP, as shown in Table 1, consists of 12 members representing commercial interests, 12 members representing recreational interests, 4 members representing environmental interests, 4 academic representatives, and the International Commission for the Conservation of Atlantic Tunas (ICCAT) Advisory Committee Chair. NMFS seeks to fill 4 commercial, 4 recreational, 3 academic, and 1 environmental organization vacancies for terms starting in 2022. In addition to these 12 vacancies, NMFS also intends to select a nominee to fill an academic vacancy for the remainder of the term that expires on December 31, 2023. This vacancy is the result of a sitting HMS AP member moving to the HMS AP seat designated for the ICCAT Advisory Committee Chair.

In filling vacancies, NMFS will seek to maintain the current representation from each of the sectors. NMFS also considers species expertise and representation from the fishing regions (Northeast, Mid-Atlantic, Southeast, Gulf of Mexico, and Caribbean) to ensure the diversity and balance of the HMS AP. Table 1 includes the current representation on the HMS AP by sector, region, and species with terms that are expiring identified in bold. It is not meant to indicate that NMFS will only consider persons who have expertise in the species or fishing regions that are listed. Rather, NMFS will aim toward having as diverse and balanced an AP as possible. The intent is to have a group that, as a whole, reflects an appropriate and equitable balance and mix of interests given the responsibilities of the HMS AP.

Table 1—Current Representation on the HMS AP by Sector, Region, and Species
Sector | Fishing region | Species | Date appointed | Date term expires | Member status
Academic * | All | Swordfish/Tuna | 1/1/2021 | 12/31/2023 | Active.
Academic | All | Tuna | 1/1/2019 | 12/31/2021 | Expiring.
Academic | Gulf of Mexico/Southeast | Shark | 1/1/2019 | 12/31/2021 | Expiring.
Academic | Southeast | Swordfish/HMS | 1/1/2019 | 12/31/2021 | Expiring.
Commercial | Mid-Atlantic | HMS/Shark | 1/1/2020 | 12/31/2022 | Active.
Commercial | Mid-Atlantic | Swordfish/Tuna | 1/1/2020 | 12/31/2022 | Active.
Commercial | Gulf of Mexico | Shark | 1/1/2020 | 12/31/2022 | Active.
Commercial | Gulf of Mexico | Sharks | 1/1/2021 | 12/31/2023 | Active.
Commercial | Northeast | Tuna | 1/1/2021 | 12/31/2023 | Active.
Commercial | Gulf of Mexico/Southeast | Swordfish/Tuna | 1/1/2021 | 12/31/2023 | Active.
Commercial | Gulf of Mexico | Tuna | 1/1/2021 | 12/31/2023 | Active.
Commercial | Northeast | Tuna | 1/1/2021 | 12/31/2023 | Active.
Commercial | Northeast/Southeast/Gulf of Mexico | HMS/Tuna | 1/1/2019 | 12/31/2021 | Expiring.
Commercial | Southeast | Shark | 1/1/2019 | 12/31/2021 | Expiring.
Commercial | Southeast | Swordfish/Tuna | 1/1/2019 | 12/31/2021 | Expiring.
Commercial | Northeast | Swordfish/Tuna | 1/1/2019 | 12/31/2021 | Expiring.
Environmental | All | Tuna | 1/1/2020 | 12/31/2022 | Active.
Environmental | All | HMS | 1/1/2020 | 12/31/2022 | Active.
Environmental | All | Shark | 1/1/2021 | 12/31/2023 | Active.
Environmental | Caribbean | HMS | 1/1/2019 | 12/31/2021 | Expiring.
Recreational | Northeast | HMS | 1/1/2020 | 12/31/2022 | Active.
Recreational | Northeast | Tuna/Sharks | 1/1/2020 | 12/31/2022 | Active.
Recreational | Mid-Atlantic | HMS | 1/1/2020 | 12/31/2022 | Active.
Recreational | Southeast | Billfish | 1/1/2020 | 12/31/2022 | Active.
Recreational | Gulf of Mexico | HMS | 1/1/2020 | 12/31/2022 | Active.
Recreational | All | Billfish | 1/1/2021 | 12/31/2023 | Active.
Recreational | Mid-Atlantic | Shark | 1/1/2021 | 12/31/2023 | Active.
Recreational | Southeast/Mid Atlantic | Billfish | 1/1/2021 | 12/31/2023 | Active.
Recreational | Northeast | Tuna/Shark | 1/1/2019 | 12/31/2021 | Expiring.
Recreational | Gulf of Mexico/Southeast | HMS | 1/1/2019 | 12/31/2021 | Expiring.
Recreational | Mid-Atlantic | HMS | 1/1/2019 | 12/31/2021 | Expiring.
Recreational | Southeast | HMS/Billfish | 1/1/2019 | 12/31/2021 | Expiring.
Note: Terms that are expiring or associated with current members stepping down are identified in bold and marked as “Expiring”. * Designates term shift to the HMS AP seat designated for the ICCAT Advisory Committee Chair.

Five additional members on the HMS AP include one member representing each of the following Councils: New England Fishery Management Council, the Mid-Atlantic Fishery Management Council, the South Atlantic Fishery Management Council, the Gulf of Mexico Fishery Management Council, and the Caribbean Fishery Management Council. The HMS AP also includes 22 ex-officio participants: 20 representatives of the coastal states and 2 representatives of the interstate commissions (the Atlantic States Marine Fisheries Commission and the Gulf States Marine Fisheries Commission).

NMFS will provide the necessary administrative support, including technical assistance, for the HMS AP. However, NMFS will not compensate participants with monetary support of any kind. Depending on availability of funds, members may be reimbursed for travel costs related to the HMS AP meetings.

C. Meeting Schedule

Meetings of the HMS AP will be held as frequently as necessary but are routinely held twice each year. In recent years, meetings have been held once in the spring, and once in the fall. The meetings may be held in conjunction with public hearings.

Dated: November 12, 2021.
Michael Ruccio,
Acting Director, Office of Sustainable Fisheries, National Marine Fisheries Service.

[FR Doc. 2021-25097 Filed 11-16-21; 8:45 am]

BILLING CODE 3510-22-P